DEPARTMENT OF COMMERCE

National Oceanic and Atmospheric Administration

[I.D.102600D]

Endangered Species; Permits

AGENCY: National Marine Fisheries Service (NMFS), National Oceanic and Atmospheric Administration (NOAA), Commerce.

ACTION: Receipt of application for a enhancement permit (1268) and issuance of permit (1259).

SUMMARY: Notice is hereby given of the following actions regarding permits for takes of endangered and threatened species for the purposes of scientific research and/or enhancement: NMFS has received a permit application from The National Aquarium in Baltimore (1268) and NMFS has issued an incidental take permit to the North Carolina Division of Marine Fisheries (NCDMF) that authorizes incidental take of Endangered Species Act-listed sea turtles, incidental to the operation and management of the large mesh gillnet fishery in southeastern Pamlico Sound, subject to certain conditions set forth therein (1259).

DATES: Comments or requests for a public hearing on any of the new applications or modification requests must be received at the appropriate address or fax number no later than 5 p.m. eastern standard time on December 4, 2000.

ADDRESSES: Written comments on any of the new applications should be sent to the appropriate office as indicated. Comments may also be sent via fax to the number indicated for the application or modification request. Comments will not be accepted if submitted via e-mail or the Internet. The applications and related documents are available for review in the indicated office, by appointment:

For permits 1268 & 1259: Endangered Species Division, Office of Protected Resources, NMFS, 1315 East-West Highway, Silver Spring, MD, 20910 301-713-1401.

FOR FURTHER INFORMATION CONTACT: Terri Jordan, Silver Spring, MD (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with, and are subject to, the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea Turtles

Green turtle (Chelonia mydas)

Kemp's ridley turtle (Lepidochelys kempii)

Leatherback turtle (Dermochelys coriacea)

Loggerhead turtle (Caretta caretta)

Hawksbill turtle (Eretmochelys imbricata)

Fish

Shortnose sturgeon (Acipenser brevirostrum).

New Applications Received

Application 1268: The applicant requests a 5-year permit to continue to maintain 1 adult shortnose sturgeon in captivity for enhancement purposes. The applicant currently possesses an adult shortnose sturgeon received from the U.S. Fish and Wildlife Service hatchery at Bears Bluff, SC in February 1997, under scientific research permit #986. Permit 986 will expire on December 31, 2000, and the permit holder does not wish to renew the enhancement aspects of his permit. As a direct result, the National Aquarium in Baltimore is applying for an individual permit to continue maintenance of this fish.

Permits Issued

Notice was published on August 3, 2000 (65 FR 47715), that an application had been filed by NCDMF for an incidental take permit. Permit 1259 was issued to NCDMF on October 5, 2000. Permit 1259 authorizes the incidental take of threatened loggerhead and green sea turtles and endangered Kemp's ridley, hawksbill, and leatherback sea turtles. NCDMF’s covered activities include the management of the fall 2000 season of the large mesh gillnet fishery in a specified area in southeastern Pamlico Sound and the prosecution of that fishery by North Carolina fishermen in compliance with NCDMF's implementing regulations. The activities are described in NCDMF's June 21, 2000, permit application and conservation plan (plan) and the associated Draft Environmental Assessment (EA), Final EA and Finding of No Significant Impact, and the permit. Issuance of the permit was based on a finding that NCDMF had met the permit issuance criteria of 50 CFR 222.307(c). Permit 125 9 was effective upon issuance and expires on December 16, 2000.

Dated: October 27, 2000.
Craig Johnson,
Acting Chief, Endangered Species Division, Office of Protected Resources, National Marine Fisheries Service.

[FR Doc. 00-28155 Filed 11-1-00; 8:45 am]

BILLING CODE 3510-22-S